NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value.

Notice is published for records schedules in which agencies propose to destroy records not previously authorized for disposal or reduce the retention period of records already authorized for disposal. NARA invites public comments on such records schedules, as required by 44 U.S.C. 3303a(a).

DATES: Requests for copies must be received in writing on or before December 18, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business.

Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records.

The records schedule itself contains a full description of the records at the file unit level as well as their disposition. If NARA staff has prepared an appraisal memorandum for the schedule, it too includes information about the records. Further information about the disposition process is available on request.

Schedules Pending

1. Department of the Air Force, Agency-wide (N1-AFU-00-5, 2 items, 2 temporary items). Records relating to the payment of survivor benefits to spouses and former spouses of members. Included are such records as election forms, cost and annuity estimates, and electronic copies of records created using electronic mail and word processing.

2. Department of the Air Force, Agency-wide (N1-AFU-00-6, 2 items, 2 temporary items). Records relating to tests and inspections of facility grounds and lightning protection systems. Files include sketches of grounding and lightning protection systems, inspection and test reports, and deficiency and repair reports. Also included are electronic copies of records created using electronic mail and word processing.

3. Department of the Army, Agency-wide (N1-AU-00-21, 3 items, 3 temporary items). Records relating to the airworthiness of Army aircraft. Included are such records as technical data, logs, test reports, airworthiness qualification statements, and electronic copies of documents created using electronic mail and word processing.

4. Department of the Army, Agency-wide (N1-AU-01-1, 1 item, 1 temporary item). Master file of the Military Personnel Transition Point Processing System II, an electronic information system used to support and facilitate the transition of soldiers from active duty status to retirement, discharge, or release from active duty. The system includes such information as rank, pay grade, command, service record, type and reason for separation, and related data.

5. Department of the Army, U.S. Criminal Investigation Command (N1-AU-01-2, 2 items, 2 temporary items). Electronic copies of documents created using electronic mail and word processing that relate to reports accumulated by criminal investigation laboratories pertaining to tests of material which may be used as evidence or exhibits in investigations. This schedule also increases the retention period for recordkeeping copies of these files, which were previously approved for disposal.

6. Department of the Army, Agency-wide (N1-AU-01-5, 2 items, 2 temporary items). Master file and outputs of the In-Processing System, an electronic information system used to support and facilitate the in-processing of soldiers and family members to an installation. The system includes such information as readiness status, installation clearances, checklists, and related data.

7. Department of the Army, Agency-wide (N1-AU-01-6, 2 items, 2 temporary items). Master file and outputs of the Out-Processing System, an electronic information system used to support and facilitate the out-processing of soldiers and family members from an installation. The system includes such information as readiness status, installation clearance certificates, checklists, and related data.

8. Department of Defense, National Imagery and Mapping Agency (N1-537-01-1, 211 items, 211 temporary items). Paper and electronic records relating to logistics, supply, maintenance, and transportation, including electronic copies of documents created using electronic mail and word processing. Records relate to such matters as procurement, solid waste management, supply accounting and stock control, maintenance of equipment, warehousing and storage, travel and transportation, property disposal, motor vehicles, and the agency small business program.

9. Department of Energy, Agency-wide (N1-434-00-7, 6 items, 6 temporary items). Records relating to administrative and operational activities that involve environmental matters. Records pertain to such subjects as safety analyses, community environmental surveillance programs, and environmental program support. Also included are electronic copies of documents created using electronic mail and word processing. These records were initially included in Disposition Job N1-434-98-28, but were withdrawn for additional review.

10. Department of the Interior, Office of the Secretary (N1-48-01-1, 3 items, 1 temporary item). Tax returns and related documents filed by the Trans-Alaska Pipeline Liability Fund, a non-profit corporation responsible for settling claims from damages resulting from oil spills occurring before August 18,1990. Annual reports and minutes of the Fund's Board of Trustees are proposed for permanent retention.

11. Department of Justice, Bureau of Prisons (N1-129-00-36, 2 items, 1 temporary item). Electronic copies of documents created using electronic mail and word processing that are associated with the chronological files of the Assistant Director, Community Corrections and Detention Division. Recordkeeping copies of these files are proposed for permanent retention.

12. Department of Justice, Bureau of Prisons (N1-129-00-37, 5 items, 5 temporary items). Records of the National Office on Citizen Participation, including central office volunteer files, inactive program files, institutional files, subject files, and electronic copies of documents created using electronic mail and word processing.

13. Department of Justice, Bureau of Prisons (N1-129-00-38, 5 items, 5 temporary items). Records of the Detention Branch, including chronological files, files relating to facilities operated under contract with private firms or local governments, files relating to detained Mariel Cubans, and subject files relating to such matters as crimes committed by aliens, relations with other agencies regarding detained aliens, and inspections of jails. Also included are electronic copies of documents created using electronic mail and word processing.

14. Department of Justice, Bureau of Prisons (N1-129-00-39, 5 items, 3 temporary items). Records of the Privatization and Special Projects Branch, including privatization master files, privatization project files, and electronic copies of documents created using electronic mail and word processing. Recordkeeping copies of files relating to the transfer of inmates from the District of Columbia Department of Corrections to Federal custody are proposed for permanent retention.

15. Department of Justice, Bureau of Prisons (N1-129-00-40, 16 items, 14 temporary items). Records of the Community Corrections Branch. Included are such records as statement of work files, past performance files, community corrections subject files, correspondence, escape reports, incident reports, untimely release reports, population reports, program review files, program statement and operations memorandum files, training files and videotapes, juvenile subject files, and electronic copies of documents created using electronic mail and word processing. Recordkeeping copies of quarterly reports of community corrections center utilization rates and quarterly field reports are proposed for permanent retention.

16. Department of the Treasury, Bureau of the Public Debt (N1-53-00-12, 3 items, 2 temporary items). Security-related records consisting of forms used to report offenses and incidents that take place at entrances to agency facilities as well as forms used in connection with issuing identification badges for employees. Also included are records relating to certain Government investment loans, which are proposed for permanent retention.

17. Department of the Treasury, Bureau of the Public Debt (N1-53-00-5, 3 items, 1 temporary item) Video masters and duplicates of public service announcements used by the Savings Bond Marketing Office to promote the sale of Savings Bonds. Original film, film transfers, and a video copy of each announcement are proposed for permanent retention.

18. Department of the Treasury, Bureau of the Public Debt (N1-53-01-2, 12 items, 11 temporary items). Government Account Series (GAS) system and related records, including such records as the GAS master file, systems documentation, and hardcopy inputs and outputs used to initiate transactions, confirm requests, summarize daily or monthly activities, detect and correct accounting errors, and reconcile account balances. The GAS Daily Principal Outstanding Report—End of Year is proposed for permanent retention in hard copy. Data from GAS is imported into the agency's Public Debt Accounting and Reporting System, which was previously approved for permanent retention.

19. Department of the Treasury, Under Secretary (Domestic Finance) (N1-56-00-3, 19 items, 15 temporary). Records relating to the Office of the Assistant Secretary for Financial Institutions, Office of Government Sponsored Enterprise Policy, and Office of Financial Institutions Policy. The records include chronological files, administrative files, schedules of daily activities, and news clips and periodicals. Also included are electronic copies of records created using electronic mail and word processing. Recordkeeping copies of office subject files and schedules of daily activities of the Under Secretary and the Assistant Secretary are proposed for permanent retention.

20. Department of the Treasury, Under Secretary (Domestic Finance) (N1-56-01-1, 7 items, 7 temporary items). Records of the Office of Market Finance relating to the processing of requests from the Bureau of the Public Debt for securities pricing information, including the electronic master file, inputs, outputs, and system documentation. Also included are the Noon Investment Package, which consists of information exchanged with the Bureau of the Public Debt, as well as electronic copies of documents created using electronic mail and word processing.

21. Department of the Treasury, Financial Management Service (N1-425-01-1, 20 items, 19 temporary items). Electronic systems with related inputs, outputs, and system documentation relating to Government-wide accounting, including summary financial and budgetary operations of the Government and the collection of data on the Government's assets, liabilities, and the cost of Government operations. Also included are office chronological files and electronic copies of documents created using electronic mail and word processing. Recordkeeping copies of the annual report of the Central Accounting System are proposed for permanent retention.

22. Department of the Treasury, Financial Management Service (N1-425-01-2, 8 items, 8 temporary items). Records of the Office of the Assistant Commissioner for Federal Finance relating to the management of the Government's cash and credit programs, including bank master and bank operating records concerning the management and operation of financial services provided by banks for the Government and bank operating records for accounts pertaining to Individual Indian Monies. Also included are electronic copies of documents created using electronic mail and word processing.

23. Department of the Treasury, Financial Management Service (N1-425-01-3, 22 items, 22 temporary items). Electronic systems with related inputs, outputs, and system documentation relating to the disbursement of Federal payments, including social security payments and tax refunds, and the collection of debt owed the Federal Government. Also included are paper copies of returned checks, office chronological files, and electronic copies of documents created using electronic mail and word processing.

24. Department of the Treasury, Financial Management Service (N1-425-01-4, 67 items, 67 temporary items). Electronic systems with related inputs, outputs, and system documentation pertaining to Federal payments, claims, collections, and financial transactions, including check payment and reconciliation, debt recovery and accounting, collecting Government funds, and managing Individual Indian Money checks. Also included are electronic copies of documents created using electronic mail and word processing, copies of checks in all media, and paper records relating to check disbursement.

25. Inter-American Foundation, Office of Programs (N1-454-00-1, 7 items, 5 temporary items). Working papers, monitoring reports, and audits relating to grants. Also included are electronic copies of documents created using electronic mail and word processing. Recordkeeping copies of grant project files, including rejected proposals, are proposed for permanent retention.

26. Tennessee Valley Authority, Chief Operating Officer (N1-142-00-7, 4 items, 4 temporary items). Records relating to the operation of fuel plants, including temperature charts, pressure charts, and turbine supervisory charts. Also included are electronic copies of records created using electronic mail and word processing.

Dated: October 25, 2000.
Michael J. Kurtz,
Assistant Archivist for Record Services—Washington, DC.

[FR Doc. 00-28245 Filed 11-2-00; 8:45 am]

BILLING CODE 7515-01-P